NATIONAL AERONAUTICS AND SPACE ADMINISTRATION

[Notice 03-108]

Government-Owned Inventions, Available for Licensing

ACTION: Notice of availability of inventions for licensing.

SUMMARY: The inventions listed below are assigned to the National Aeronautics and Space Administration, have been filed in the United States Patent and Trademark Office, and are available for licensing.

DATES: September 15, 2003.

FOR FURTHER INFORMATION CONTACT: Edward Fein, Patent Counsel, Johnson Space Center, Mail Code HA, Houston, TX 77058-3696; telephone (281) 483-4871; fax (281) 244-8452.

NASA Case No. MSC-23303-1: Downlink Data Multiplexer;

NASA Case No. MSC-23326-1: Inorganic Process For Formation Of Magnetite;

NASA Case No. MSC-23510-1: Portable Catapult Launcher For Small Aircraft;

NASA Case No. MSC-23538-1: Practical Active Capacitor Filter;

NASA Case No. MSC-23539-1: Auto-Routable, Configurable, Daisy Chainable Data Acquisition System;

NASA Case No. MSC-23549-1: Novel Feed Structure For Antennas.

Dated: September 8, 2003.
Robert M. Stephens,
Deputy General Counsel.

[FR Doc. 03-23495 Filed 9-12-03; 8:45 am]

BILLING CODE 7510-01-P